DEPARTMENT OF THE INTERIOR

National Park Service

National Register of Historic Places;Notification of Pending Nominations

Nominations for the following properties being considered for listing in the National Register were received by the National Park Service before July 7, 2002. Pursuant to § 60.13 of 36 CFR part 60 written comments concerning the significance of these properties under the National Register criteria for evaluation may be forwarded by United States Postal Service, to the National Register of Historic Places, National Park Service, 1849 C St. NW, NC400, Washington, DC 20240; by all other carriers, National Register of Historic Places, National Park Service, 800 N. Capitol St., NW, Suite 400, Washington DC 20002; or by fax, 202-343-1836. Written or faxed comments should be submitted by August 2, 2002.

Paul R. Lusignan,
Acting Keeper of the National Register of Historic Places.

FLORIDA

Duval County

St. George Episcopal Church, (Florida's Carpenter Gothic Churches MPS), 10560 Ft. George Rd. E, Jacksonville, 02000839

Hillsborough County

J.J. Newbury Co. Building, Old, 815-819 N. Franklin St., Tampa, 02000837

Leon County

Killearn Plantation Archeological and Historic District, 3540 Thomasville Rd., Tallahassee, 02000836

Polk County

Thompson and Company Cigar Factory, (Bartow MPS), 255 N. Third St., Bartow, 02000838

Georgia

Candler County

Metter High School, Jct. of College St. and Vertia St., Metter, 02000840

Jenkins County

Millen High School, 100 Cleveland Ave., Millen, 02000842

Marion County

Ables, Alfred and Jane, House, 230 E. Fifth Ave., Buena Vista, 02000841

Illinois

Cook County

Woman's Christian Temperance Union Administration Building, 1730 Chicago Ave., Evanston, 02000849

Du Page County

Henderson, Frank B., House, 301 S. Kenilworth, Elmhurst, 02000844

Jackson County

Giant City Stone Fort Site, Stone Fort Rd., Makanda, 02000848

Lake County

Karcher Hotel, 405 Washington St., Waukegan, 02000845

Macon County

Transfer House, 1 Central Park East, Decatur, 02000843

Madison County

Brooks Catsup Bottle Water Tower, 800 Morrison Ave., Collinsville, 02000847

Mercer County

Thompson, James S., House, 804 North St., New Boston, 02000846

MAINE

Oxford County

First Universalist Society of West Sumner, 1114 Main St., Sumner, 02000850

MISSISSIPPI

Chickasaw County

Okolona College, US 245 N, 1.1 mi N of jct. with MS 41 and MS 32, Okolona, 02000853

Coahoma County

WROX Building, 257 Delta Ave., Clarksdale, 02000854

Forrest County

Hub City Historic District (Boundary Increase), Roughly along Main, Market, Newman and Walnut Sts., Hattiesburg, 02000855

Parkhaven Historic District, Roughly along S. 22nd Ave. and S. 21st Ave., from Hardy to Mamie Sts., Hattiesburg, 02000856

Harrison County

Benton, Thomas and Melinda, House, 14115 Rippy Rd., Gulfport, 02000857

Hewes, Finley B., House, 604 E. Beach Blvd., Gulfport, 02000852

Noxubee County

Scales, William Henry, House, 1108 Magnolia Dr., Macon, 02000858

MISSOURI

Greene County

Mid-town Historic District (Boundary Increase I), Roughly along N. Robberson Ave. and N. Jefferson Ave., Springfield, 02000851

NEBRASKA

Dawes County

Hotel Chadron, 115 Main St., Chadron, 02000859

WASHINGTON

King County

Gas Works Park, 2000 N. Northlake Way, Seattle, 02000862

Pagani, Luigi and Aurora, House, 32907 Merino St., Black Diamond, 02000861

Rector Hotel, 619-621 Third Ave., Seattle, 02000863

Spokane County

Hillyard Historic Business District, N. 4912-5220 Market St., E. 3108-3117 Olympia Ave., Spokane, 02000860

A request for REMOVAL has been made for the following resources:

MISSISSIPPI

Pike County

Lieb-Rawls House (Magnolia MRA) 303 Magnolia St., Magnolia, 84000051

Tishomingo County

Edwards. R.D., House (Iuka MPS) 603 Indian Creek Rd., Iuka, 91000933

[FR Doc. 02-18048 Filed 7-17-02; 8:45 am]

BILLING CODE 4310-70-P